POSTAL SERVICE

Market Test of Experimental Product: “Commercial PO Box Redirect Service”

AGENCY: Postal Service™.

ACTION: Notice of market test.

SUMMARY: The Postal Service gives notice of a market test of an experimental product in accordance with statutory requirements.

DATES: May 13, 2020.

FOR FURTHER INFORMATION CONTACT: Kara C. Marcello, 202-268-4031.

SUPPLEMENTARY INFORMATION: The United States Postal Service hereby gives notice pursuant to 39 U.S.C. 3641(c)(1) that it plans to begin a market test of its “Commercial PO Box Redirect Service” experimental product on June 8, 2020. The Postal Service has filed with the Postal Regulatory Commission a notice setting out the basis for the Postal Service's determination that the market test is covered by 39 U.S.C. 3641, and describing the nature and scope of the market test. Documents are available at www.prc.gov, Docket No. MT2020-1.

Joshua J. Hofer
Attorney, Federal Compliance.

[FR Doc. 2020-10168 Filed 5-12-20; 8:45 am]

BILLING CODE 7710-12-P